FEDERAL MARITIME COMMISSION

[Docket No. 25-15]

Worldwide Nexus Logistics, LLC, Complainant v. Wallenius Wilhelmsen, Respondent; Notice of Filing of Complaint and Assignment

Notice is given that a complaint has been filed with the Federal Maritime Commission (the “Commission”) by Worldwide Nexus Logistics, LLC (the “Complainant”) against Wallenius Wilhelmsen (the “Respondent”). Complainant states that the Commission has subject-matter jurisdiction over the complaint pursuant to 46 U.S.C. 41301 and 41302, and personal jurisdiction over Respondent pursuant to 46 U.S.C. 41304.

Complainant is a logistics provider existing under the laws of the state of Florida with its principal place of business in Doral, Florida.

Complainant identifies Respondent as a common carrier, as defined in 46 U.S.C. 40102(7), with a business address in Parsippany, New Jersey.

Complainant alleges that Respondent violated 46 U.S.C. 41102(c). Complainant alleges these violations arose from Respondent's responsibility and subsequent failure to timely submit required in-transit documentation for a shipment contracted by Complainant, withdrawal of an already-offered settlement agreement, and other acts or omissions by Respondent.

An answer to the complaint must be filed with the Commission within 25 days after the date of service.

The full text of the complaint can be found in the Commission's electronic Reading Room at https://www2.fmc.gov/readingroom/proceeding/25-15/. This proceeding has been assigned to the Office of Administrative Law Judges. The initial decision of the presiding judge shall be issued by August 1, 2026, and the final decision of the Commission shall be issued by February 16, 2027.

(Authority: 46 U.S.C. 41301; 46 CFR 502.61(c))

Served: August 1, 2025.
Jennifer Everling,
Assistant Secretary.

[FR Doc. 2025-14818 Filed 8-4-25; 8:45 am]

BILLING CODE 6730-02-P